DEPARTMENT OF TRANSPORTATION

Federal Aviation Administration

Air Tour Management Plan Environmental Assessment for Mount Rainier National Park, WA; Public Meeting/Notice of Availability, Review, and Comment on Draft Alternatives

AGENCY: Federal Aviation Administration (FAA), DOT

ACTION: Notice of public meeting, request for comments, and availability of preliminary alternatives.

SUMMARY: This notice announces the availability of draft air tour alternatives and announces meetings hosted by the National Park Service, Mount Rainier National Park, and the FAA's Air Tour Management Program. The purpose of these meetings is to introduce proposed alternatives to the public which contain specific routes and altitudes used by air tour operators when providing air tours of Mount Rainier National Park. The meeting provides an opportunity for the public to review and comment on alternatives.

DATES: Comment Period: Comments must be received on or before May 16, 2011.

Meetings: The meetings will be held at the following locations, dates, and times:

April 26, 2011: 6:30-8:30 p.m., Mountaineers Building, Goodman A Auditorium, 7700 Sand Point Way, NE., Seattle, WA 98115.

April 27, 2011: 6:30-8:30 p.m., Mount Rainier National Park Education Center, Tahoma Woods, Ashford Headquarters, 55210 238th Ave. E., Ashford, WA 98304.

April 28, 2011: 6:30-8:30 p.m., Washington State History Museum, 1911 Pacific Ave., Tacoma, WA 98402.

FOR FURTHER INFORMATION CONTACT: Ms. Lelaina Marin, National Park Service, Natural Resource Program Center, Natural Sounds and Night Skies Division, 1201 Oakridge Drive, Suite 100, Fort Collins, CO 80525; telephone: (970) 225-3552 or Mr. Larry Tonish, Federal Aviation Administration, Air Tour Management Program, AWP-1SP, 15000 Aviation Blvd., Hawthorne, CA 90250; telephone: (310) 725-3817.

SUPPLEMENTARY INFORMATION: The FAA is issuing this notice pursuant to the National Parks Air Tour Management Act of 2000 (Pub. L. 106-181) and its implementing regulations contained in Title 14, Code of Federal Regulations, Part 136, National Parks Air Tour Management. The public is invited to review and provide comment on draft alternatives in the development of an Air Tour Management Plan (ATMP) for the Mount Rainier National Park. The FAA is the Lead Agency and the NPS is a Cooperating Agency in the development of an Environmental Assessment (EA), an ATMP, and associated rulemaking actions which comply with the National Environmental Policy Act of 1969 (NEPA) requirements.

The EA is being prepared in accordance with FAA Order 1050.1E, environmental Impacts: Policies and Procedures, NPS Director's Order #12: Conservation Planning, Environmental Impact Analysis, and Decision-making, and NPS Management Policies. The FAA and NPS are now inviting comment from the public, agencies, tribes and other interested parties on the draft alternatives being considered to prepare an Air Tour Management Plan Environmental Assessment for Mount Rainier National Park, Washington.

Attendance is open to the interested public but limited to space availability. The FAA and NPS request that comments be as specific as possible in response to actions that are being proposed under this notice. Both oral and written comments will be accepted during these meetings. Agency personnel will be available to answer questions and document comments. All written comments become part of the official record along with previously submitted scoping comments. Written comments on the draft alternatives can also be submitted on the NPS on the NPS Planning, Environment and Public Comment System at: http://parkplanning.nps.gov/MORA_ATMP or sent to the mailing addresses listed in the “FOR FURTHER INFORMATION CONTACT” section.

Documents that describe the Mount Rainier National Park ATMP project in greater detail and the draft ATMP alternatives under consideration are available at the following locations:

• FAA Air Tour Management Plan Program Web site,

http://www.faa.gov/about/office_org/headquarters_offices/arc/programs/air_tour_management_plan/

• NPS Planning, Environment and Public Comment Web site, http://parkplanning.nps.gov/MORA_ATMP.

• Longmire Museum, Mount Rainier National Park

• Henry M. Jackson Memorial Visitor Center at Paradise, Mount Rainier National Park.

• Ohanapecosh Visitor Center, Mount Rainier National Park.

• Bonney Lake Library

• Buckley Library

• Eatonville Library

• Enumclaw City Library

• Graham Library

• Orting Library

• Packwood Timberland Library

• Parkland-Spanaway Library

• Puyallup Library

• Seattle Central Library

• South Hill Library

• Summit Library (Tacoma)

• Sumner Library

• Tacoma Public Library—Main Library

• Yakima Valley Regional Library

• Environmental Ctr. Resource Library, Huxley College of Environmental Studies, Western Washington University

Issued in Hawthorne, California, on March 22, 2011.
Larry Tonish,
Program Manager, Air Tour Management Program.

[FR Doc. 2011-7306 Filed 3-28-11; 8:45 am]

BILLING CODE 4910-13-P